DEPARTMENT OF THE INTERIOR

Bureau of Ocean Energy Management

Outer Continental Shelf, Gulf of Mexico, Oil and Gas Lease Sales, Western Planning Area Lease Sale 248 MMAA 104000

AGENCY: Bureau of Ocean Energy Management (BOEM), Interior.

ACTION: Notice of Intent to Prepare a Supplemental Environmental Impact Statement and Announcement of Scoping Meetings and Comment Period for Proposed Gulf of Mexico Outer Continental Shelf Oil and Gas Western Planning Area Lease Sale 248.

SUMMARY: Consistent with the regulations implementing the National Environmental Policy Act, as amended (42 U.S.C. 4321 et seq.) (NEPA), BOEM is announcing its intent to prepare a Supplemental Environmental Impact Statement (EIS) for proposed Western Planning Area (WPA) Lease Sale 248 in the Gulf of Mexico (WPA 248 Supplemental EIS). The WPA 248 Supplemental EIS will update the environmental and socioeconomic analyses in the Gulf of Mexico OCS Oil and Gas Lease Sales: 2012-2017; Western Planning Area Lease Sales 229, 233, 238, 246, and 248; Central Planning Area Lease Sales 227, 231, 235, 241, and 247, Final Environmental Impact Statement (2012-2017 WPA/CPA Multisale EIS; OCS EIS/EA BOEM 2012-019); Gulf of Mexico OCS Oil and Gas Lease Sales: 2013-2014; Western Planning Area Lease Sale 233; Central Planning Area Lease Sale 231, Final Supplemental Environmental Impact Statement (WPA 233/CPA 231 Supplemental EIS; OCS EIS/EA BOEM 2013-0118); Gulf of Mexico OCS Oil and Gas Lease Sales: 2014-2016; Western Planning Area Lease Sales 238, 246, and 248, Final Supplemental Environmental Impact Statement (WPA 238, 246, and 248 Supplemental EIS; OCS EIS/EA BOEM 2014-009); and Gulf of Mexico OCS Oil and Gas Lease Sales: 2015 and 2016; Western Planning Area Lease Sales 246 and 248, Final Supplemental Environmental Impact Statement (WPA 246 and 248 Supplemental EIS; OCS EIS/EA BOEM 2015-008).

The WPA 248 Supplemental EIS will supplement the NEPA documents cited above for the proposed lease sale in order to consider new circumstances and information arising from, among other things, the Deepwater Horizon explosion, oil spill, and response. It will focus on updating the baseline conditions and any new information on the potential environmental effects of oil and natural gas leasing, exploration, development, and production in the WPA identified through the Area Identification procedure as the proposed lease sale area. In addition to the no action alternative (i.e., canceling the proposed lease sale), other alternatives may be considered for the proposed WPA lease sale, such as deferring certain areas from the proposed lease sale area.

DATES: Comments should be submitted by April 29, 2015 to the address specified above.

FOR FURTHER INFORMATION CONTACT: For information on the WPA 248 Supplemental EIS, the submission of comments, or BOEM's policies associated with this notice, please contact: Mr. Gary D. Goeke, Chief, Environmental Assessment Section, Office of Environment (GM 623E), Bureau of Ocean Energy Management, Gulf of Mexico OCS Region, 1201 Elmwood Park Boulevard, New Orleans, Louisiana 70123-2394, telephone 504-736-3233.

SUPPLEMENTARY INFORMATION: On August 27, 2012, the Secretary of the Interior approved as final the Proposed Final OCS Oil & Gas Leasing Program: 2012-2017 (Five-Year Program). This Supplemental EIS will consider the one remaining WPA lease sale for this 2012-2017 Five-Year Program. The proposed WPA lease sale area encompasses virtually all of the WPA's 28.58 million acres, with the exception of whole and partial blocks within the boundary of the Flower Garden Banks National Marine Sanctuary.

This Federal Register notice is not an announcement to hold the proposed lease sale, but it is a continuation of information gathering and is published early in the environmental review process in furtherance of the goals of NEPA. Once the NEPA process and WPA 248 Supplemental EIS is completed, the WPA 248 Supplemental EIS content will be summarized in presale documentation prepared during the decisionmaking process for WPA Lease Sale 248. If, after completion of the WPA 248 Supplemental EIS, the Department of the Interior's Assistant Secretary for Land and Minerals Management decides to hold the lease sale, then the lease sale area identified in the final Notice of Sale may exclude or defer certain lease blocks from the area offered. However, for purposes of the WPA 248 Supplemental EIS and to adequately assess the potential impacts of an areawide lease sale, BOEM will consider all unleased blocks that may be offered in proposed WPA Lease Sale 248.

Scoping Process: This Notice of Intent (NOI) serves to announce the scoping process for identifying issues and alternatives to consider in the WPA 248 Supplemental EIS. Throughout the scoping process, Federal, State, Tribal, and local governments and the general public have the opportunity to help BOEM determine significant resources and issues, impacting factors, reasonable alternatives, and potential mitigating measures to be analyzed in the WPA 248 Supplemental EIS and to provide additional information. BOEM will also use the NEPA commenting process to initiate the Section 106 consultation process of the National Historic Preservation Act (16 U.S.C. 470f), as provided for in 36 CFR 800.2(d)(3).

Pursuant to the regulations implementing the procedural provisions of NEPA (42 U.S.C. 4321 et seq.), BOEM will hold public scoping meetings in Texas and Louisiana on the WPA 248 Supplemental EIS. The purpose of these meetings is to solicit comments on the scope of the WPA 248 Supplemental EIS. BOEM's scoping meetings will be held at the following places and times:

• Houston, Texas: Tuesday, April 14, 2015, Houston Airport Marriott at George Bush Intercontinental, 18700 John F. Kennedy Boulevard, Houston, Texas 77032, one meeting beginning at 1:00 p.m. CDT; and

• New Orleans, Louisiana: Thursday, April 16, 2015, Bureau of Ocean Energy Management, Gulf of Mexico OCS Region, 1201 Elmwood Park Boulevard, New Orleans, Louisiana 70123, one meeting beginning at 1:00 p.m. CDT.

Cooperating Agency: BOEM invites other Federal, State, Tribal, and local governments to consider becoming cooperating agencies in the preparation of the WPA 248 Supplemental EIS. We invite qualified government entities to inquire about cooperating agency status for the WPA 248 Supplemental EIS. Following the guidelines from the Council on Environmental Quality (CEQ), qualified agencies and governments are those with “jurisdiction by law or special expertise.” Potential cooperating agencies should consider their authority and capacity to assume the responsibilities of a cooperating agency, and remember that an agency's role in the environmental analysis neither enlarges nor diminishes the final decisionmaking authority of any other agency involved in the NEPA process. Upon request, BOEM will provide potential cooperating agencies with a written summary of ground rules for cooperating agencies, including time schedules and critical action dates, milestones, responsibilities, scope and detail of cooperating agencies' contributions, and availability of predecisional information. BOEM anticipates this summary will form the basis of a Memorandum of Agreement between BOEM and any cooperating agency. Agencies should also consider the “Factors for Determining Cooperating Agency Status” in Attachment 1 to CEQ's January 30, 2002, Memorandum for the Heads of Federal Agencies: Cooperating Agencies in Implementing the Procedural Requirements of the National Environmental Policy Act. These documents are available at the following locations on the Internet: http://ceq.hss.doe.gov/nepa/regs/cooperating/.html; and http://ceq.hss.doe.gov/nepa/regs/cooperating/.html.

BOEM, as the lead agency, will not provide financial assistance to cooperating agencies. Even if an organization is not a cooperating agency, opportunities will exist to provide information and comments to BOEM during the normal public input stages of the NEPA/EIS process. For further information about cooperating agencies, please contact Mr. Gary D. Goeke at 504-736-3233.

Comments: All interested parties, including Federal, State, Tribal, and local governments, and other interested parties, may submit written comments on the scope of the WPA 248 Supplemental EIS, significant issues that should be addressed, alternatives that should be considered, potential mitigating measures, and the types of oil and gas activities of interest in the proposed WPA 248 lease sale area.

Written scoping comments may be submitted in one of the following ways:

1. In an envelope labeled “Scoping Comments for the WPA 248 Supplemental EIS” and mailed (or hand delivered) to Mr. Gary D. Goeke, Chief, Environmental Assessment Section, Office of Environment (GM 623E), Bureau of Ocean Energy Management, Gulf of Mexico OCS Region, 1201 Elmwood Park Boulevard, New Orleans, Louisiana 70123-2394;

2. Through the regulations.gov web portal: Navigate to http://www.regulations.gov and search for “Oil and Gas Lease Sales: Gulf of Mexico, Outer Continental Shelf; Western Planning Area Lease Sale 248” (Note: It is important to include the quotation marks in your search terms). Click on the “Comment Now!” button to the right of the document link. Enter your information and comment, then click “Submit”; or

3. Through BOEM's email address: wpa248@boem.gov.

Petitions, although accepted, do not generally provide useful information to assist in the development of alternatives, resources, and issues to be analyzed, or impacting factors. BOEM does not consider anonymous comments; please include your name and address as part of your submittal. BOEM makes all comments, including the names and addresses of respondents, available for public review during regular business hours. Individual respondents may request that BOEM withhold their names and/or addresses from the public record; however, BOEM cannot guarantee that we will be able to do so. If you wish your name and/or address to be withheld, you must state your preference prominently at the beginning of your comment. All submissions from organizations or businesses and from individuals identifying themselves as representatives or officials of organizations or businesses will be made available for public inspection in their entirety.

Authority: This NOI is published pursuant to the regulations (40 CFR 1501. 7) implementing the provisions of NEPA.

Dated: March 25, 2015.
Abigail Ross Hopper,
Director, Bureau of Ocean Energy Management.

[FR Doc. 2015-07325 Filed 3-27-15; 8:45 am]

BILLING CODE 4310-MR-P